DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the information collection abstracted below has been forwarded to the Office of Management and Budget (OMB) for review and comment. The nature of the information collection is described as well as its expected burden. The Federal Register notice with a 60-day comment period soliciting comments on the following information collection was published on November 2, 2001. No comments were received.

DATES: Comments must be submitted on or before February 11, 2002.

FOR FURTHER INFORMATION CONTACT: Christopher Krusa, Maritime Administration, 400 Seventh Street, S.W., Washington, DC 20590. Telephone: 202 366-2648 or Fax: 202 493-2288. Copies of this collection can also be obtained from that office.

SUPPLEMENTARY INFORMATION: Title: Supplementary Training Course Application.

OMB Control Number: 2133-0030.

Type of Request: Extension of currently approved collection.

Affected Public: U.S. merchant seamen, both officers and unlicensed personnel, and other U.S. citizens employed in other areas of waterborne commerce.

Form(s): MA-823.

Abstract: Section 1305(a) of the Maritime Education and Training Act of 1980 indicates that the Secretary of Transportation may provide maritime-related training to merchant mariners of the United States and to individuals preparing for a career in the merchant marine of the United States. Also, the U.S. Coast Guard requires a fire-fighting certificate for U.S. merchant marine officers. This information collection provides the information necessary for the maritime schools to plan their course offerings and for applicants to complete their certificate requirements.

Annual Burden Hours: 100 hours.

Addressee: Send comments to the Office of Information and Regulatory Affairs, Office of Management and Budget, 725 17th Street, N.W., Washington, DC 20503, Attention MARAD Desk Officer.

Comments are Invited on: (a) Whether the proposed collection of information is necessary for the proper performance of the functions of the agency, including whether the information will have practical utility; (b) the accuracy of the agency's estimate of the burden of the proposed information collection; (c) ways to enhance the quality, utility and clarity of the information to be collected; and (d) ways to minimize the burden of the collection of information on respondents, including the use of automated collection techniques or other forms of information technology.

A comment to OMB is best assured of having its full effect if OMB receives it within 30 days of publication.

Issued in Washington, D.C. on January 8, 2002.
Joel C. Richard,
Secretary.

[FR Doc. 02-810 Filed 1-10-02; 8:45 am]

BILLING CODE 4910-81-P